DEPARTMENT OF ENERGY

Federal Energy Regulatory Commission

Combined Notice of Filings

Take notice that the Commission has received the following Natural Gas Pipeline Rate and Refund Report filings:

Filings Instituting Proceedings

Docket Numbers: PR14-8-000.

Applicants: Columbia Gas of Ohio, Inc.

Description: Tariff filing per 284.123(b)(1),: Statement of Operating Conditions Baseline to be effective 11/21/2013.

Filed Date: 11/21/13.

Accession Number: 20131121-5096.

Comments Due: 5 p.m. ET 12/12/13.

284.123(g) Protests Due: 5 p.m. ET 1/21/14.

Docket Numbers: PR14-9-000.

Applicants: J-W Pipeline Company.

Description: Tariff filing per 284.123(b)(2)+: J-W Pipeline Rate Petition Filing to be effective 12/1/2013.

Filed Date: 11/21/13.

Accession Number: 20131121-5096.

Comments Due: 5 p.m. ET 12/12/13.

284.123(g) Protests Due: 5 p.m. ET 1/21/14.

Docket Numbers: RP14-200-000.

Applicants: Southern Star Central Gas Pipeline, Inc.

Description: Annual Operational Flow Order Report of Southern Star Central Gas Pipeline, Inc.

Filed Date: 11/21/13.

Accession Number: 20131121-5085.

Comments Due: 5 p.m. ET 12/3/13.

Docket Numbers: RP14-201-000.

Applicants: National Fuel Gas Supply Corporation.

Description: TSCA 2014 to be effective 1/1/2014.

Filed Date: 11/21/13.

Accession Number: 20131121-5207.

Comments Due: 5 p.m. ET 12/3/13.

Docket Numbers: RP14-202-000.

Applicants: Gas Transmission Northwest LLC.

Description: Annual Fuel Filing 2013 to be effective 1/1/2014.

Filed Date: 11/22/13.

Accession Number: 20131122-5020.

Comments Due: 5 p.m. ET 12/4/13.

Docket Numbers: RP14-203-000.

Applicants: Chandeleur Pipe Line Company.

Description: Chandeleur Pipe Line Company's Fuel and Line Loss Allowance Calculation for 2013.

Filed Date: 11/22/13.

Accession Number: 20131122-5025.

Comments Due: 5 p.m. ET 12/4/13.

Docket Numbers: RP14-204-000.

Applicants: Southern Star Central Gas Pipeline, Inc.

Description: Annual Cash-Out Refund Report of Southern Star Central Gas Pipeline, Inc.

Filed Date: 11/22/13.

Accession Number: 20131122-5034.

Comments Due: 5 p.m. ET 12/4/13.

Docket Numbers: RP14-205-000.

Applicants: Natural Gas Pipeline Company of America.

Description: MidAmerican Energy Negotiated Rate to be effective 12/1/2013.

Filed Date: 11/22/13.

Accession Number: 20131122-5117.

Comments Due: 5 p.m. ET 12/4/13.

Docket Numbers: RP14-206-000.

Applicants: El Paso Natural Gas Company, L.L.C.

Description: Non-Conforming Agreements Filing (SRP) to be effective 1/1/2014.

Filed Date: 11/22/13.

Accession Number: 20131125-5000.

Comments Due: 5 p.m. ET 12/4/13.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

Filings in Existing Proceedings

Docket Numbers: RP13-1376-001.

Applicants: Millennium Pipeline Company, LLC.

Description: Negotiated Rate & Non-Conforming Agreement—SW—Compliance to be effective 11/1/2013.

Filed Date: 11/21/13.

Accession Number: 20131121-5095.

Comments Due: 5 p.m. ET 12/3/13.

Docket Numbers: RP14-151-001.

Applicants: Northwest Pipeline LLC.

Description: 2013 NWP Housekeeping Filing Ammendment to be effective 12/5/2013.

Filed Date: 11/22/13.

Accession Number: 20131122-5141.

Comments Due: 5 p.m. ET 12/4/13.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2013.
Nathaniel J. Davis, Sr.,
Deputy Secretary.

[FR Doc. 2013-28924 Filed 12-3-13; 8:45 am]

BILLING CODE 6717-01-P